DEPARTMENT OF HEALTH AND HUMAN SERVICES

Substance Abuse and Mental Health Services Administration

Meeting of the Substance Abuse and Mental Health Services Administration, Center for Substance Abuse Prevention National Advisory Council

AGENCY: Substance Abuse and Mental Health Services Administration, HHS.

ACTION: Notice.

SUMMARY: Notice is hereby given for the meeting on February 27, 2024, of the Center for Substance Abuse Prevention National Advisory Council (CSAP NAC). The meeting is open to the public and can also be accessed virtually. Agenda with call-in information will be posted on the SAMHSA website prior to the meeting at: https://www.samhsa.gov/about-us/advisory-councils/meetings . The meeting will include, but not be limited to, remarks from the Assistant Secretary for Mental Health and Substance Use; approval of the meeting minutes of August 29, 2023; overview of CSAP strategic planning activities; presentations on substance use prevention priorities; Council discussion and public comments.

DATES: February 27, 2024, 9:00 a.m. to approximately 4:00 p.m. EST, Open.

ADDRESSES: 5600 Fishers Lane, Rockville, Maryland 20857 (Room 5N54).

FOR FURTHER INFORMATION CONTACT: Michelle McVay, Designated Federal Official; Substance Abuse and Mental Health Service Administration, CSAP National Advisory Council, 5600 Fishers Lane, Rockville, Maryland 20857 (mail); telephone: (202) 407-2154; email: michelle.mcvay@samhsa.hhs.gov

SUPPLEMENTARY INFORMATION: The CSAP NAC was established to advise the Secretary, Department of Health and Human Services (HHS), and the Assistant Secretary for Mental Health and Substance Use, SAMHSA; and the Director, CSAP, concerning matters relating to the activities carried out by and through the Center and the policies respecting such activities.

Interested persons may present data, information, or views orally or in writing, on issues pending before the Council. Written submissions must be forwarded to the contact person no later than 7 days before the meeting. Oral presentations from the public will be scheduled for the public comment section at the end of the council discussion. Individuals interested in making oral presentations must notify the contact person by 1:00 p.m. (EST), February 20, 2024. Up to three minutes will be allotted for each presentation, and as time permits, as these are presented in the order received. Public comments received will become part of the meeting records.

To obtain the call-in number, access code, and/or web access link; submit written or brief oral comments; or request special accommodations for persons with disabilities, please register on-line at: https://snacregister.samhsa.gov, or communicate with the contact person. Meeting information and a roster of Council members may be obtained either by accessing the CSAP Council's website at https://www.samhsa.gov/about-us/advisory-councils, or by contacting Michelle McVay.

Dated: January 27, 2024.
Carlos Castillo,
Committee Management Officer.

[FR Doc. 2024-02063 Filed 2-1-24; 8:45 am]

BILLING CODE 4162-20-P